POSTAL REGULATORY COMMISSION

Sunshine Act Meetings

TIME AND DATE: 11 a.m., Wednesday, December 2, 2009.

PLACE: Commission conference room, 901 New York Avenue, NW., Suite 200, Washington, DC 20268-0001.

STATUS: Open (most matters) and closed (several matters).

MATTERS TO BE CONSIDERED: 1. Review of postal-related Congressional actions (open).

2. Reports on international activities (open).

3. Status of PRC's annual report (open).

4. Review of active cases (open).

5. Review of possible future rulemakings (open).

6. Report on recent activities of Joint Periodical Task Force and status of report to the Congress pursuant to section 708 of the Postal Accountability and Enhancement Act of 2006 (open).

7. Status of pending litigation—USPS v. PRC (closed).

8. Personnel matters—Discussion of salaries and discussion of senior staff goals (closed).

FOR FURTHER INFORMATION CONTACT: Stephen L. Sharfman, general counsel, Postal Regulatory Commission, 202-789-6820 or stephen.sharfman@prc.gov.

Dated: November 20, 2009.
Judith M. Grady,
Acting Secretary.

[FR Doc. E9-28229 Filed 11-20-09; 11:15 am]

BILLING CODE 7710-FW-S